DEPARTMENT OF ENERGY

Federal Energy Regulatory Commission

[Docket No. RP03-161-001]

Chandeleur Pipe Line Company; Notice of Filing

December 11, 2002.

Take notice that on December 6, 2002, Chandeleur Pipe Line Company (Chandeleur) tendered Substitute 13th Revised Sheet No. 5 correctly identifying its proposed Line Loss Allowance as 0.3%.

Chandeleur asserts that this filing is tendered in order to correct and replace previously-tendered materials, docketed on November 29, 2002. Calculations contained in worksheets accompanying the November 29 filing indicate a retention value of 0.3%, however tariff sheets and accompanying materials were submitted with a proposed percentage of 0.03%.

Chandeleur states that the purpose of this filing is to account for changes in amounts retained for Fuel and Line Loss Allowance pursuant to the provisions of 18 CFR 154.403(d)(3) and in accordance with section 21.0 of the General Terms and Conditions of Chandeleury's FERC Gas Tariff, Second Revised Volume No. 1.

Any person desiring to protest said filing should file a protest with the Federal Energy Regulatory Commission, 888 First Street, NE., Washington, DC 20426, in accordance with section 385.211 of the Commission's rules and regulations. All such protests must be filed on or before December 18, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-31731 Filed 12-17-02; 8:45 am]

BILLING CODE 6717-01-P